DEPARTMENT OF ENERGY

Federal Energy Regulatory Commission

[Docket No. CP95-168-004]

Sea Robin Pipeline Company; Notice of Compliance Filing

September 26, 2000.

Take notice that on August 25, 2000, Sea Robin Pipeline Company (Sea Robin) tendered for filing, as part of its FERC Gas Tariff, First Revised Volume No. 1, pro forma tariff sheets to comply with Ordering Paragraph (C) of the Federal Energy Regulatory Commission's June 30, 1999, order in the referenced docket. The pro forma tariff sheets modify Sea Robin's General Terms and Conditions and Rate Schedule's FTS, FTS-2, and ITS to separately state gathering and transmission costs, since it was determined that facilities upstream of the compressor station on the Vermillion 149 platform performed a gathering function.

Sea Robin states that a copy of this filing is available for public inspection during regular business hours at Sea Robin's office at 5444 Westheimer Road, Houston, Texas 77056-5306. In addition, copies of this filing are being served on parties to the proceeding and appropriate state regulatory agencies.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 6, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Applicant's designated contact person is Anna Cochrane at 202-293-5794.

David P. Boergers,
Secretary.

[FR Doc. 00-25123 Filed 9-29-00; 8:45 am]

BILLING CODE 6717-01-M